DEPARTMENT OF DEFENSE

Department of the Army, Corps of Engineers

Inland Waterways Users Board Meeting Cancellation Notice

AGENCY: Department of the Army, U.S. Army Corps of Engineers, DoD.

ACTION: Notice of cancellation of Federal advisory committee meeting.

SUMMARY: The Department of the Army published a notice in the Federal Register March 6, 2025, concerning a meeting of the Inland Waterways Users Board (Board). The meeting scheduled for Thursday, April 3, 2025, in Paducah, KY from 9:00 a.m. to 1:00 p.m. CDT on April 3, 2025, is cancelled. The Department of the Army will reassess whether this meeting can be rescheduled for a future date.

FOR FURTHER INFORMATION CONTACT: Mr. Paul D. Clouse, the Designated Federal Officer for the committee, by email at Paul.D.Clouse@usace.army.mil or by telephone at 202-768-3157.

SUPPLEMENTARY INFORMATION: The meeting notice was published in the Federal Register on March 6, 2025 (90 FR 11407) as FR document 2025-03599.

Stephen L. Hill,
Director, Operations and Regulatory Programs.

[FR Doc. 2025-04394 Filed 3-17-25; 8:45 am]

BILLING CODE 3720-58-P